DEPARTMENT OF COMMERCE

International Trade Administration

[A-583-848]

Certain Stilbenic Optical Brightening Agents From Taiwan: Final Results of Antidumping Duty Administrative Review; 2018-2019

AGENCY: Enforcement and Compliance, International Trade Administration, Department of Commerce.

SUMMARY: On May 8, 2020, the Department of Commerce (Commerce) published the preliminary results of the administrative review of the antidumping duty order on certain stilbenic optical brightening agents (stilbenic OBAs) from Taiwan. The period of review (POR) is May 1, 2018 through April 30, 2019. For the final results of this review, we continue to find that Teh Fong Ming International Co., Ltd. (TFM) has made sales of subject merchandise at less than normal value during the POR.

DATES: Applicable July 14, 2020.

FOR FURTHER INFORMATION CONTACT: Bryan Hansen, AD/CVD Operations, Office I, Enforcement and Compliance, International Trade Administration, U.S. Department of Commerce, 1401 Constitution Avenue NW, Washington, DC 20230; telephone: (202) 482-3683.

SUPPLEMENTARY INFORMATION:

Background

On May 8, 2020, Commerce published the Preliminary Results of the administrative review of the antidumping duty order on stilbenic OBAs from Taiwan.¹ The administrative review covers one producer/exporter of the subject merchandise, TFM. We gave interested parties an opportunity to comment on the Preliminary Results. We received no comments. Hence, these final results are unchanged from the Preliminary Results. Commerce conducted this review in accordance with sections 751(a)(1)(B) and (2) of the Tariff Act of 1930, as amended (the Act).

¹ See Stilbenic Optical Brightening Agents from Taiwan: Preliminary Results of Antidumping Duty Administrative Review; 2018-2019, 85 FR 27361 (May 8, 2020) (Preliminary Results).

On January 14, 2020, we extended the due date for the preliminary results of this review from January 31, 2020 to May 22, 2020. On April 24, 2020, Commerce tolled all deadlines in administrative reviews by 50 days. As a result of Commerce's tolling of deadlines, the deadline for the preliminary results of this review was revised to July 13, 2020, and the current deadline for the final results of this review is now October 13, 2020.²

² See Memorandum, “Tolling of Deadlines for Antidumping and Countervailing Duty Administrative Reviews in Response to Operational Adjustments Due to COVID-19,” dated April 24, 2020. All deadlines in this segment of the proceeding have been extended by 50 days. Commerce's practice dictates that, where a deadline falls on a weekend or federal holiday, the appropriate deadline is the next business day (in this instance, October 13, 2020). See Notice of Clarification: Application of “Next Business Day” Rule for Administrative Determination Deadlines Pursuant to the Tariff Act of 1930, As Amended, 70 FR 24533 (May 10, 2005).

Scope of the Order

The stilbenic OBAs covered by this order are all forms (whether free acid or salt) of compounds known as triazinylaminostilbenes (i.e., all derivatives of 4,4′-bis [1,3,5-triazin-2-yl] ³ amino- 2,2′-stilbenedisulfonic acid), except for compounds listed in the following paragraph. The stilbenic OBAs covered by this order include final stilbenic OBA products, as well as intermediate products that are themselves triazinylaminostilbenes produced during the synthesis of stilbenic OBA products.

³ The brackets in this sentence are part of the chemical formula.

Excluded from this order are all forms of 4,4′-bis[4-anilino-6-morpholino-1,3,5-triazin-2-yl] ⁴ amino-2,2′-stilbenedisulfonic acid, C40H40N12O8S2 (“Fluorescent Brightener 71”). This order covers the above-described compounds in any state (including but not limited to powder, slurry, or solution), of any concentrations of active stilbenic OBA ingredient, as well as any compositions regardless of additives (i.e., mixtures or blends, whether of stilbenic OBAs with each other, or of stilbenic OBAs with additives that are not stilbenic OBAs), and in any type of packaging.

⁴ Id.

These stilbenic OBAs are classifiable under subheading 3204.20.8000 of the Harmonized Tariff Schedule of the United States (HTSUS), but they may also enter under subheadings 2933.69.6050, 2921.59.4000 and 2921.59.8090. Although the HTSUS subheadings are provided for convenience and customs purposes, the written description of the merchandise is dispositive.

Final Results of the Administrative Review

As a result of this administrative review, we determine that a weighted-average dumping margin exists for the POR.

Producer/exporter | Weighted- average dumping margin (percent)
Teh Fong Min International Co., Ltd | 4.61

Assessment

Pursuant to section 751(a)(2)(C) of the Act and 19 CFR 351.212(b), Commerce has determined, and U.S. Customs and Border Protection (CBP) shall assess, antidumping duties on all appropriate entries of subject merchandise in accordance with the final results of this review. For TFM, we calculated importer-specific assessment rates on the basis of the ratio of the total amount of antidumping duties calculated for each importer's examined sales and the total entered value of the sales in accordance with 19 CFR 351.212(b)(1).⁵

⁵ In these final results, Commerce applied the assessment rate calculation method adopted in Antidumping Proceedings: Calculation of the Weighted-Average Dumping Margin and Assessment Rate in Certain Antidumping Duty Proceedings; Final Modification, 77 FR 8101 (February 14, 2012).

For entries of subject merchandise during the period of review produced by TFM for which it did not know its merchandise was destined for the United States, we will instruct CBP to liquidate unreviewed entries at the all-others rate if there is no rate for the intermediate companies involved in the transaction. We intend to issue assessment instructions to CBP 15 days after the date of publication of the final results of review.

Cash Deposit Requirements

The following cash deposit requirements for estimated antidumping duties will be effective upon publication of the notice of final results of this review for all shipments of stilbenic OBAs from Taiwan entered, or withdrawn from warehouse, for consumption on or after the date of publication as provided by section 751(a)(2) of the Act: (1) The cash deposit rate for TFM will be 4.61 percent, the weighted-average dumping margin established in the final results of this administrative review; (2) for merchandise exported by companies not covered in this review but covered in a prior segment of this proceeding, the cash deposit rate will continue to be the company-specific rate published for the most recent period; (3) if the exporter is not a firm covered in this review, a prior review, or the original investigation but the producer is, then the cash deposit rate will be the rate established for the most recently completed segment for the producer of the merchandise; (4) the cash deposit rate for all other producers or exporters will continue to be 6.19 percent, the all-others rate established in the less-than-fair-value investigation, adjusted for the export-subsidy rate in the companion countervailing duty investigation. These cash deposit requirements, when imposed, shall remain in effect until further notice.

Notification to Importers

This notice serves as a final reminder to importers of their responsibility under 19 CFR 351.402(f)(2) to file a certificate regarding the reimbursement of antidumping duties prior to liquidation of the relevant entries during this period of review. Failure to comply with this requirement could result in Commerce's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a violation subject to sanction.

Notification to Interested Parties

Commerce is issuing and publishing these results in accordance with sections 751(a)(1) and 777(i) of the Act and 19 CFR 351.221(b)(5).

Dated: July 8, 2020.
Jeffrey I. Kessler,
Assistant Secretary for Enforcement and Compliance.

[FR Doc. 2020-15152 Filed 7-13-20; 8:45 am]

BILLING CODE 3510-DS-P